DEPARTMENT OF THE INTERIOR

Bureau of Land Management

[LLWYD10000.L14300000.EU0000; WYW-161972; WYW-176935]

Notice of Intent To Amend the Snake River Resource Management Plan for the Pinedale Field Office and Prepare an Associated Environmental Assessment; and Notice of Realty Action: Classification and Direct Sale of Public Land in Teton County, WY

AGENCY: Bureau of Land Management, Interior.

ACTIONS: Notice of Intent and Notice of Realty Action.

SUMMARY: In compliance with the National Environmental Policy Act (NEPA) of 1969, as amended, and the Federal Land Policy and Management Act (FLPMA) of 1976, as amended, the Bureau of Land Management (BLM) Pinedale Field Office, Pinedale, Wyoming, intends to prepare a Resource Management Plan (RMP) amendment with an associated environmental assessment (EA) for the Snake River RMP and by this notice is announcing the beginning of the scoping process to solicit public comments and identify issues. Three parcels of public land in Teton County, Wyoming, are being classified as suitable for disposal under the provisions of Section 203 of FLPMA and are being proposed for direct sale at no less than the appraised fair market value.

DATES: This notice initiates the public scoping process for the RMP amendment with the associated EA and segregates the three parcels from operation of the public land laws as described below. Comments regarding the proposed amendment, classification, or sale must be received by the BLM at the address below no later than May 6, 2013. The date(s) and location(s) of any scoping meetings will be announced at least 15 days in advance through local news media and newspapers. In order to be included in the analysis, all comments must be received prior to the close of the 45-day scoping period or 30 days after the last public meeting, whichever is later. We will provide additional opportunities for public participation as appropriate.

ADDRESSES: You may submit comments on issues and planning criteria related to the plan amendment and realty action by any of the following methods:

• Mail: Field Manager, Pinedale Field Office, P.O. Box 768, 1625 West Pine Street, Pinedale, WY 82941.

• Email: WYMail@blm.gov with “Snake River Amendment” in the subject line. Documents pertinent to this proposal may be examined at the Pinedale Field Office at the above address.

FOR FURTHER INFORMATION CONTACT: Tracy Hoover, Realty Specialist, BLM Pinedale Field Office, 1625 West Pine Street, Pinedale, WY 82941; telephone 307-367-5342; email thoover@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Wyoming Pinedale Field Office intends to prepare an RMP amendment with an associated EA for the Snake River RMP, announces the beginning of the scoping process, and seeks public input on issues and planning criteria. The three parcels are located in Teton County, Wyoming, and encompass approximately 2.01 acres of public land. The purpose of the public scoping process is to determine relevant issues that will influence the scope of the environmental analysis, including alternatives, and guide the planning process. Preliminary issues for the plan amendment area have been identified by BLM personnel; Federal, state and local agencies; and other stakeholders. The issues include: revision of disposal language to include private individuals as well as governmental entities.

The BLM is proposing to amend the April 5, 2004 Snake River RMP to identify and allow for the direct sale of three surveyed parcels of public land totaling 2.01 acres located in Teton County, Wyoming, near Jackson. The three parcels that comprise the subject of the plan amendment and are described as:

Sixth Principal Meridian

T. 40 N., R. 116 W., (Parcel 1, 0.13 acres)

sec. 34, lot 14.

T. 40 N., R. 117 W., (Parcel 2, 0.82 acres)

sec. 25, lot 14.

T. 41 N., R 117 W., (Parcel 3, 1.06 acres)

Tract 46B.

Under Section 203 of the FLPMA, as amended (43 U.S.C. 1713), if the BLM determines that the three parcels of public land are suitable for disposal, then the BLM may propose to offer them for direct sale at the appraised fair market value.

To resolve unintentional unauthorized uses, including residences and agricultural buildings, Parcel 1 is proposed for direct sale to adjacent landowner Sewell Partners and 2 is proposed for direct sale to adjacent landowner Evans Land & Cattle Company. These parcels are the minimum size possible to ensure that all the improvements are included, but also to ensure that the parcels cannot be resold or used as building sites unto themselves. The appraised fair market value for Parcel 1 is $4,200 and Parcel 2 is $3,500. Parcel 3 is proposed for direct sale to TSR Limited because its inaccessible location makes it difficult and uneconomical for the BLM to manage and it is not suitable for management by another agency. An appraisal will be completed on Parcel 3 at a later date.

A direct sale to resolve unintentional trespass is consistent with the objectives, goals and decision of the BLM Snake River RMP. A direct sale to dispose of a tract of land that is difficult and uneconomical for the BLM to manage, and is not suitable for management by another government agency, is also consistent with the objectives, goals and decision of the BLM Snake River RMP.

In accordance with 43 CFR 2710.0-6(c)(3)(iii) and 43 CFR 2711.3-3(a), direct sale procedures are appropriate to resolve an inadvertent, unauthorized occupancy of the land or to protect existing equities in the land. The sales, when completed, would protect the improvements involved and resolve the inadvertent encroachment on two parcels and eliminate a difficult management situation on another. The three parcels of land are not required for other Federal purposes and do not contain other known public values. Conveyance of the identified public lands will be subject to valid existing rights and encumbrances of record, including, but not limited to, rights-of-way for roads and public utilities. The patent will include an appropriate indemnification claim protecting the United States from claims arising out of the patentee's use occupancy or occupations on the patented lands. No warranty of any kind, express or implied, is given by the United States as to the title, physical condition, or potential uses of the parcels of land proposed for sale. The BLM will retain all mineral rights.

Upon publication of this notice in the Federal Register, the lands will be segregated from all forms of appropriation under the public land laws, including the general mining laws, except for conveyance under the FLPMA and leasing under the mineral leasing laws. Until completion of the sale, the BLM will no longer accept land use applications affecting the identified public land, except applications for the amendment of previously filed right-of-way applications or existing authorizations to increase the term of the grants, in accordance with 43 CFR 2807.15 and 2886.15. This segregative effect will end upon issuance of the patent, publication in the Federal Register of a termination of the segregation, or March 20, 2015, unless extended by the BLM State Director in accordance with 43 CFR 2711.1-2(d) prior to the termination date.

The following reservations, rights, and conditions would be included in the patent that may be issued for the above parcels of public land:

1. A reservation of all minerals to the United States;

2. A right-of-way thereon for ditches or canals constructed by the authority of the United States pursuant to the Act of August 30, 1890 (43 U.S.C. 945); and

3. All valid existing rights of record, including those documented on the official public land records at the time of patent issuance.

Detailed information concerning these actions is available for review at the address above during normal business hours, 7:45 a.m. to 4:30 p.m., Monday through Friday, excluding Federal holidays.

You may submit comments on issues and planning criteria regarding the RMP amendment process, as well as written comments concerning the lands being considered for sale, including notification of any encumbrances or other claims relating to the identified lands in writing to the BLM at any public scoping meeting, or you may submit them to the BLM using one of the methods listed in the ADDRESSES section above. To be most helpful, you should submit comments by the close of the 45-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, state, and local agencies, along with tribes and other stakeholders that may be interested in or affected by the proposed action that the BLM is evaluating, are invited to participate in the scoping process and, if eligible, may request or be requested by the BLM to participate in the development of the environmental analysis as a cooperating agency. The minutes and list of attendees for each scoping meeting will be available to the public and open for 30 days after the meeting to any participant who wishes to clarify the views he or she expressed. The BLM will evaluate identified issues to be addressed in the plan and will place them into one of three categories:

1. Issues to be resolved in the plan amendment;

2. Issues to be resolved through policy or administrative action; or

3. Issues beyond the scope of this plan amendment.

The BLM will provide an explanation in the Draft RMP Amendment/Draft EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, forestry, outdoor recreation, archaeology, paleontology, wildlife and fisheries, lands and realty, hydrology, soils, sociology, and economics.

Before including your address, phone number, email address, or other personal identifying information in your comment, you should be aware that your entire comment—including your personal identifying information—may be made publicly available at any time. While you can ask us in your comment to withhold your personal identifying information from public review, we cannot guarantee that we will be able to do so. Any adverse comments will be reviewed by the State Director, who may sustain, vacate, or modify this realty action. In the absence of timely filed objections, this realty action will become the final determination of the Department of the Interior.

Authority: 43 CFR 2711.1-2(a), 40 CFR 1501.7 and 43 CFR 1610.2

Dated: January 10, 2013.
Donald A. Simpson,
State Director, Wyoming.

[FR Doc. 2013-06331 Filed 3-19-13; 8:45 am]

BILLING CODE 4310-22-P